DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by June 26, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Infrastructure Investment and Jobs Act Financial Assistance to Facilities that Purchase and Process Byproducts for Ecosystem Restoration (CFDA 10.725) Wood Products Infrastructure Assistance (WPIA).

OMB Control Number: 0596-0254.

Summary of Collection: USDA Forest Service is delivering the Wood Products Infrastructure Assistance (WPIA) as part of the Bipartisan Infrastructure Law. Section 40804(b)3 of the Infrastructure Investment and Jobs Act Public Law 117-58 (11/15/2021) directs the USDA Forest Service to provide financial assistance to an entity seeking to establish, reopen, expand, or improve a sawmill or other wood processing facility in close proximity to a unit of federal or Indian land that has been identified as high or very high priority for ecological restoration. According to 2 CFR part 200 and Forest Service Handbook 1509.11, chapter 20, there is certain narrative and budget information required for the Agency to determine if the project meets the legislative requirements and if the costs are reasonable, allocable, allowable, and necessary for the project. In particular, collection of information is necessary to ascertain if applicants seeking financial assistance do in fact operate facilities in close proximity to a unit of federal or Indian land that has been identified as high or very high priority for ecological restoration.

Need and Use of the Information: Eligible applicants are for-profit entities; state, local governments; Indian Tribes; school districts; community, not-for-profit organizations; institutions of higher education; and special purpose districts (e.g., public utilities districts, fire districts, conservation districts, and ports).

Applications will be submitted to via email by the date and time as listed in the Notice of Funding Opportunity at Grants.gov; searchable and identifiable by the catalog of domestic federal assistance (CFDA) number 10.725. The Forest Service State & Private Forestry will receive, review, and track all applications.

Description of Respondents: State, local, Tribal governments.

Number of Respondents: 702.

Frequency of Responses: Annually.

Total Burden Hours: 2,107.

Forest Service

Title: Temporary Bridge Funding Opportunity (TBFO) Program.

OMB Control Number: 0596-0255.

Summary of Collection: USDA Forest Service is delivering the Temporary Bridge Funding Opportunity (TBFO) Program as part of the Bipartisan Infrastructure Law. Section 40804(b)5 of the Infrastructure Investment and Jobs Act Public Law 117-58 (11/15/2021) directs the Forest Service to provide funding for States and Indian Tribes to establish rental programs for portable skidder bridges, bridge mats, or other temporary water crossing structures, to minimize stream bed disturbance on non-Federal land and Federal land. According to 2 CFR part 200 and Forest Service Handbook 1509.11, chapter 20, prescribes administrative requirements and processes applicable to all Forest Service domestic and international Federal Financial Assistance awards to State and local governments, institutions of higher education, hospitals, private profit and nonprofit organizations, individuals, and foreign recipients. In particular, collection of information is necessary to ascertain the required needs of applicants to initiate a temporary bridge program to protect water resources and reduce water quality degradation during forestry related operations requiring temporary water resource crossings.

Need and Use of the Information: Eligible applicants are For-profit entities; state, local governments; Indian Tribes; school districts; community, not-for-profit organizations; institutions of higher education; and special purpose districts (e.g., public utilities districts, fire districts, conservation districts, and ports).

Applications will be submitted via email and the Forest Service State & Private Forestry will receive, review, and track all applications.

Description of Respondents: State, local, Tribal governments.

Number of Respondents: 300.

Frequency of Responses: Annually.

Total Burden Hours: 700.

Levi S. Harrell,
Departmental Information Collection Clearance Officer.

[FR Doc. 2023-11219 Filed 5-24-23; 8:45 am]

BILLING CODE 3411-15-P